DEPARTMENT OF EDUCATION

Applications for New Awards; Predominantly Black Institutions Formula Grant Program

AGENCY: Office of Postsecondary Education, Department of Education.

ACTION: Notice.

Overview Information:

Predominantly Black Institutions (PBI) Formula Grant Program.

Notice inviting applications for new awards for fiscal year (FY) 2011.

Catalog of Federal Domestic Assistance (CFDA) Number: 84.031P.

DATES: Purpose of Program: Through the Predominantly Black Institutions (PBI) Formula Grant Program, the Department makes grant awards to eligible institutions to plan, develop, undertake, and implement programs to enhance their capacity to serve more low- and middle-income Black American students; to expand higher education opportunities for eligible students by encouraging college preparation and student persistence in secondary school and postsecondary education; and to strengthen the financial ability of the institutions to serve the academic needs of these students.

Program Authority: Title III, part A, section 318 of the Higher Education Act of 1965, as amended (HEA) (20 U.S.C. 1059e).

Applicable Regulations: The Education Department General Administrative Regulations (EDGAR) in 34 CFR parts 74, 75, 77, 82, 84, 85, 86, 97, 98, and 99.

II. Award Information

Type of Award: Formula Grant.

Estimated Available Funds $9,601,758.

Estimated Average Size of Awards: Grants awarded under the PBI Formula Grant Program will be allotted to eligible institutions based on the formula included in section 318(e) of the HEA (20 U.S.C. 1059e(e)), with no grantee allotted less than $250,000.

If the amount appropriated for this program for a fiscal year is not sufficient to pay the minimum allotment to eligible institutions, then the amount of the minimum allotment must be ratably reduced, in accordance with section 318(e) of the HEA (20 U.S.C. 1059e(e)(4)).

Funding Formula:

Grant amounts to PBIs will be awarded according to the following formula:

(1) Federal Pell Grant basis—From the amount appropriated for this program for any fiscal year, the Secretary allots to each PBI with an approved application a sum that bears the same ratio to one-half of that amount as the number of Federal Pell Grant recipients in attendance at such institution at the end of the academic year preceding the beginning of that fiscal year, bears to the total number of Federal Pell Grant recipients at all such institutions at the end of such academic year.

(2) Graduates basis—From the amount appropriated for this program for any fiscal year, the Secretary allots to each PBI with an approved application a sum that bears the same ratio to one-fourth of that amount as the number of graduates for such academic year at such institution, bears to the total number of graduates for such academic year at all such institutions.

(3) Graduates Seeking a higher degree basis—From the amount appropriated for this program for any fiscal year, the Secretary allots to each PBI with an approved application a sum that bears the same ratio to one-fourth of that amount as the percentage of graduates from such institution who are admitted to and in attendance at, not later than two years after graduation with an associate's degree or a baccalaureate degree, a baccalaureate degree-granting institution or a graduate or professional school in a degree program in disciplines in which Black American students are underrepresented, bears to the percentage of such graduates for all such institutions.

Estimated Number of Awards: All applicant institutions that meet the eligibility requirements will receive a portion of the total appropriations for the PBI Formula Grant Program.

Note: The Department is not bound by any estimates in this notice.

Project Period: 60 months.

III. Eligibility Information

1. Eligible Applicants: To be eligible, an applicant must have previously submitted the “Application for Designation as an Eligible Institution” and received FY 2011 designation as an eligible institution for programs under title III and title V of the HEA. The regulations explaining the standards for designation can be found in 34 CFR 607.2 through 607.5. In addition, an applicant must—

(1) Have an enrollment of needy undergraduate students as defined in section 318(b)(2) of the HEA;

(2) Have an average educational and general expenditure that is low, per full-time equivalent undergraduate student, in comparison with the average educational and general expenditure per full-time equivalent undergraduate student of institutions that offer similar instruction, except that the Secretary may apply the waiver requirements described in section 392(b) of the HEA to this subparagraph in the same manner as the Secretary applies the waiver requirements to section 312(b)(1)(B) of the HEA;

(3) Have an enrollment of undergraduate students that is not less than 40 percent Black American students;

(4) Be legally authorized to provide, and provide, within the State an educational program for which the institution of higher education awards a baccalaureate degree or, in the case of a junior or community college, an associate's degree;

(5) Be accredited by a nationally recognized accrediting agency or association determined by the Secretary to be a reliable authority as to the quality of training offered or is, according to such an agency or association, making reasonable progress toward accreditation; and

(6) Not be receiving funds under any other provision of part A or part B of title III of the HEA or part A of title V of the HEA or be authorized to receive an annual appropriation under the Act of March 2, 1867 (20 U.S.C. 123).

To be eligible for a grant under the PBI Formula Grant Program, an applicant must also meet the definition of a Predominantly Black Institution in section 318(b)(6) of the HEA. The term Predominantly Black Institution means an institution of higher education, as defined in section 101(a) of the HEA—

(A) That is an eligible institution with not less than 1,000 undergraduate students;

(B) At which not less than 50 percent of the undergraduate students enrolled at the eligible institution are low-income individuals or first-generation college students; and

(C) At which not less than 50 percent of the undergraduate students are enrolled in an educational program leading to a bachelor's or associate's degree that the eligible institution is licensed to award by the State (defined as each of the 50 States and the District of Columbia) in which the eligible institution is located.

2. Cost Sharing or Matching: This program does not require cost sharing or matching unless the grantee uses a portion of its grant for establishing or improving an endowment fund. If a grantee uses a portion of its grant for endowment fund purposes, it must match those grant funds with non-Federal funds in an amount equal to or greater than the Federal funds used for the establishment or increase of the endowment fund (20 U.S.C. 1059e(d)(3)).

IV. Application and Submission Information

1. Address to Request Application Package: You can obtain an application package via the Internet or from the Department. To obtain a copy via the Internet, use the following address for the PBI Formula Grant Program Web site: http://www.ed.gov/programs/pbihea/index.html. To obtain a copy from the Department, write, fax, or call the following: Bernadette D. Miles, U.S. Department of Education, 1990 K Street, NW., Room 6025, Washington, DC 20006-8515. Telephone: (202) 502-7616, or by e-mail: bernadette.miles@ed.gov.

If you use a telecommunications device for the deaf (TDD), call the Federal Relay Service (FRS), toll free, at 1-800-877-8339.

Individuals with disabilities can obtain a copy of the application package in an accessible format (e.g., braille, large print, audiotape, or compact disc) by contacting the program contact person listed in this section.

2. Content and Form of Application Submission: The application process for this program has two phases: Phase I involves submitting 2009-2010 data used to run the funding formula; Phase II includes the narrative project plan and standard forms. The deadline dates for submitting Phases I and II of the application are listed in this notice. Other requirements concerning the content of an application, together with the forms you must submit, are in the application package for this program.

3. Submission Dates and Times:

Applications Available: August 17, 2011.

Deadline for Transmittal of Phase I of Applications: September 1, 2011.

Deadline for Transmittal of Phase II of Applications: September 16, 2011.

Applications for grants under this competition must be submitted electronically as an e-mail attachment to pbiprogram@ed.gov by 12:00:00 a.m. Washington, DC time, on the deadline date.

We do not consider an application that does not comply with the deadline requirements.

4. Intergovernmental Review: This program is not subject to Executive Order 12372 and the regulations in 34 CFR part 79.

5. Funding Restrictions: We reference regulations outlining funding restrictions in the Applicable Regulations section in this notice.

6. Data Universal Numbering System Number, Taxpayer Identification Number, and Central Contractor Registry: To do business with the Department of Education, you must—

a. Have a Data Universal Numbering System (DUNS) number and a Taxpayer Identification Number (TIN);

b. Register both your DUNS number and TIN with the Central Contractor Registry (CCR), the Government's primary registrant database;

c. Provide your DUNS number and TIN on your application; and

d. Maintain an active CCR registration with current information while your application is under review by the Department and, if you are awarded a grant, during the project period.

You can obtain a DUNS number from Dun and Bradstreet.

A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

7. Other Submission Requirements: Applications for grants under this program must be submitted electronically unless you qualify for an exception to this requirement in accordance with the instructions in this section.

a. Electronic Submission of Applications.

Applications for grants under the Predominantly Black Institutions Formula Grant Program—CFDA Number 84.031P must be submitted electronically via e-mail to pbiprogram@ed.gov.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the PBI Program at http://www.ed.gov/programs/pbihea/index.html.

Please note the following:

• You must complete the electronic submission of your grant application by 12:00:00 a.m., Washington, DC time, on the application deadline date. We will not accept an application for this program after 12:00:00 a.m., Washington, DC time, on the application deadline date. Therefore, we strongly recommend that you do not wait until the application deadline date to begin the application process.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications.

• You must attach any narrative sections of your application as files in a .DOC (document), .RTF (rich text), or .PDF (Portable Document) format. If you upload a file type other than the three file types specified in this paragraph or submit a password protected file, we will not review that material.

• Your electronic application must comply with any page limit requirements described in this notice.

• Prior to submitting your electronic application, you may wish to print a copy of it for your records.

• Within three working days after submitting Phase II of your electronic application, fax a signed copy of the SF 424 to the Application Control Center after following these steps:

(1) Print SF 424 from e-Application.

(2) The applicant's Authorizing Representative must sign this form.

(3) Place the PR/Award number in the upper right hand corner of the hard-copy signature page of the SF 424.

(4) Fax the signed SF 424 to the Application Control Center at (202) 245-6272.

• We may request that you provide us original signatures on other forms at a later date.

Exception to Electronic Submission Requirement: You qualify for an exception to the electronic submission requirement, and may submit your application in paper format, if you are unable to submit an application via e-mail because—

• You do not have access to the Internet;

and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: Bernadette D. Miles, U.S. Department of Education, 1990 K Street, NW., Room 6025, Washington, DC 20006-8515. FAX: (202) 502-7861.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address:

U.S. Department of Education, Application Control Center, Attention: (CFDA Number 84.031P), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address:

U.S. Department of Education, Application Control Center, Attention: (CFDA Number 84.031P), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

Grants awarded under the PBI Formula Grant Program are based on a formula. All applicants who meet the eligibility requirements will receive a portion of the total appropriations for this program based on the formula contained in section 318(e) of the HEA (20 U.S.C. 1059e(e)).

Department staff will review applications to determine eligibility and to ensure that all activities proposed in the application are allowable under section 318(d) of the HEA (20 U.S.C. 1059e(d)).

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to: http://www.ed.gov/fund/grant/apply/appforms/appforms.html.

4. Performance Measures: The Secretary has established the following key performance measures for assessing the effectiveness of the PBI Formula Grant Program:

(a) Enrollment Rate: The percentage change of the number of full-time degree-seeking undergraduate students enrolled at PBIs.

(b) Persistence Rate—four-year institutions: The percentage of first-time, full-time degree-seeking undergraduate students at four-year PBIs who were in their first year of postsecondary enrollment in the previous year and are enrolled in the current year at the same four-year PBI.

(c) Persistence Rate—two-year institutions: The percentage of first-time, full-time degree-seeking undergraduate students at two-year PBIs who were in their first year of postsecondary enrollment in the previous year and are enrolled in the current year at the same two-year PBI.

(d) Completion Rate—four-year institutions: The percentage of first-time, full-time degree-seeking undergraduate students enrolled at four-year PBIs who graduate within six years of enrollment.

(e) Completion Rate—two-year institutions: The percentage of first-time, full-time degree-seeking undergraduate students enrolled at two-year PBIs who graduate within three years of enrollment.

(f) Efficiency Measure: Cost per successful program outcome: Federal cost per undergraduate degree at PBIs.

VII. Agency Contact

FOR FURTHER INFORMATION CONTACT: Bernadette D. Miles, Institutional Service, U.S. Department of Education, 1990 K Street, NW., Room 6025, Washington, DC 20006-8515. Telephone: (202) 502-7616, or by e-mail: bernadette.miles@ed.gov.

If you use a TDD, call the FRS, toll free, at 1-800-877-8339.

VIII. Other Information

Accessible Format: Individuals with disabilities can obtain this document and a copy of the application package in an accessible format (e.g., braille, large print, audiotape, or compact disc) on request to the program contact person listed under FOR FURTHER INFORMATION CONTACT in section VII of this notice. Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

Dated: August 12, 2011.
Eduardo M. Ochoa,
Assistant Secretary for Postsecondary Education.

[FR Doc. 2011-20998 Filed 8-16-11; 8:45 am]

BILLING CODE 4000-01-P